DEPARTMENT OF THE TREASURY

Submission for OMB Review; Comment Request

March 9, 2007.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before April 13, 2007 to be assured of consideration.

Internal Revenue Service (IRS)

OMB Number: 1545-1876.

Type of Review: Extension.

Title: REG-166012-02 (NPRM) Notional Contracts; Contingent Nonperiodic Payments.

Description: The collection of information in the proposed regulations is in Sec. 1.446-3(g)(6)(vii) of the Income Tax Regulations, requiring Taxpayers to maintain in their books and records a description of the method used to determine the projected amount of a contingent payment, the projected payment schedules, and the adjustments taken into account under the proposed regulations. The information is required by the IRS to verify compliance with section 446 of the Internal Revenue Code and the method of accounting described in Sec. 1.446-3(g)(6).

Respondents: Businesses and other for-profit institutions.

Estimated Total Burden Hours: 25,500 hours.

OMB Number: 1545-2032.

Type of Review: Extension.

Title: Income Verification Express Service Application and Employee Delegation Form.

Form: 13803.

Description: Form 13803, Income Verification Express Service Application and Employee Delegation Form, is used to submit the required information necessary to complete the e-services enrollment process for IVES users and to identify delegates receiving transcripts on behalf of the principle account user.

Respondents: Businesses and other for-profit institutions.

Estimated Total Burden Hours: 100 hours.

OMB Number: 1545-1866.

Type of Review: Extension.

Title: U.S. Corporation Income Tax Declaration for an IRS e-file Return.

Form: 8453C.

Description: Form 8453-C is used to enable the electronic filing of Form 1120.

Respondents: Businesses and other for-profit institutions.

Estimated Total Burden Hours: 14,040 hours.

OMB Number: 1545-1565.

Type of Review: Extension.

Title: Notice 97-64 Temporary Regulations To Be Issued Under Section 1(h) of the Internal Revenue Code (Applying Section 1(h) to Capital Gain Dividends of RICs and REITs).

Description: Notice 97-64 provides notice of forthcoming temporary regulations that will permit Regulated Investment Companies (RICs) and Real Estate Investment Trusts (REIT) to distribute multiple classes of capital gain dividends.

Respondents: Businesses and other for-profit institutions.

Estimated Total Burden Hours: 1 hour.

OMB Number: 1545-1455.

Type of Review: Extension.

Title: PS-80-93 (Final) Rules for Certain Rental Real Estate Activities.

Description: The regulation provides rules relating to the treatment of rental real estate activities of certain taxpayers under the passive activity loss and credit limitations on Internal Revenue Code section 469.

Respondents: Individuals or Households.

Estimated Total Burden Hours: 3,015 hours.

OMB Number: 1545-1863.

Type of Review: Extension

Title: IRS e-file Signature Authorization for Form 1120S.

Form: 8879S

Description: Form 8879-S authorizes an officer of a corporation and an electronic return originator (ERO) to use a personal identification number (PIN) to electronically sign a corporation's electronic income tax return and, if applicable, Electronic Funds Withdrawal Consent.

Respondents: Businesses and other for-profit institutions.

Estimated Total Burden Hours: 74,181 hours.

OMB Number: 1545-0117.

Type of Review: Extension.

Title: Original Issue Discount.

Form: 1099-OID.

Description: Form 1099-OID is used for reporting original issue discount as required by section 6049 of the Internal Revenue Code. It is used to verify that income earned on discount obligations is properly reported by the recipient.

Respondents: Businesses and other for-profit institutions.

Estimated Total Burden Hours: 1,142,324 hours.

OMB Number: 1545-0429.

Type of Review: Extension.

Title: Requst for Copy of Tax Return.

Form: 4506.

Description: 26 U.S.C. 7513 allows for taxpayers to request a copy of a tax return. Form 4506 is used by a taxpayer to request a copy of a Federal tax form. The information provided will be used for research to locate the tax form and to ensure that the requester is the taxpayer or someone authorized by the taxpayer.

Respondents: Individuals or Households.

Estimated Total Burden Hours: 260,000 hours.

Clearance Officer: Glenn P. Kirkland (202) 622-3428, Internal Revenue Service, Room 6516, 1111 Constitution Avenue, NW., Washington, DC 20224.

OMB Reviewer: Alexander T. Hunt (202) 395-7316, Office of Management and Budget, Room 10235, New Executive Office Building, Washington, DC 20503.

Michael A. Robinson,
Treasury PRA Clearance Officer.

[FR Doc. E7-4667 Filed 3-13-07; 8:45 am]

BILLING CODE 4830-01-P